DEPARTMENT OF COMMERCE

National Institute of Standards and Technology

Agency Information Collection Activities, Submission for Office of Management and Budget (OMB) Review and Emergency Approval; Comment Request; CHIPS Environmental Questionnaire

The Department of Commerce will submit the following information collection request to the Office of Management and Budget (OMB) for emergency review and approval in accordance with the Paperwork Reduction Act of 1995, on or after the date of publication of this notice. We invite the general public and other Federal agencies to comment on proposed, and continuing information collections, which helps us assess the impact of our information collection requirements and minimize the public's reporting burden.

Agency: National Institute of Standards and Technology (NIST).

Title: CHIPS Environmental Questionnaire.

OMB Control Number: 0693-XXXX.

Form Number(s): N/A.

Type of Request: Emergency submission, New Information Collection Request.

Number of Respondents: 200 respondents.

Average Hours per Response: 8 hours.

Burden Hours: 1,600 hours.

Needs and Uses: Businesses and other entities applying for CHIPS Act funding are required to submit a pre-application or application via a form available at https://applications.chips.gov/. One form in both applications is the Environmental Questionnaire. The purpose of the Environmental Questionnaire is to ensure that the Department of Commerce is aware, in broad terms, of relevant environmental considerations, and can work with the potential applicant to ensure that the applicant can provide all required environmental information during the full application and due diligence stages when applying for funding. Each applicant must provide the requested information on the Environmental Questionnaire using the template which will be made available on the CHIPS Incentives Program application portal.

Information to be collected includes information pertaining to an applicant's:

• Project Description

• Project Site/Affected Environment

• Resource Consumption Rates and Effluent Emissions Streams and Impacts

• Tribal, Historic, and Cultural Resources

• Project Setting

• Vegetation Resources.

• Conservation Areas

• Coastal Zones and Navigable Waters

• Wetlands

• Floodplains

• Endangered Species

• Land Use and Zoning

• Solid Waste Management

• Hazardous or Toxic Substances

• Impacts to Water Quality/Water Resources

• Water Supply and Distribution System

• Wastewater Collection and Treatment Facilities

• Environmental Justice & Socioeconomics

• Transportation (Streets, Traffic and Parking)

• Air Quality

• Greenhouse Gases and their Environmental Effects

• Noise

• Health and Safety

• Permits and other Government Agency Involvement

• Public Notification/Controversy

• Environmental Experience and Approach

Affected Public: Businesses and other entities applying for CHIPS Act funding.

Frequency: Once per application.

Respondent's Obligation: Voluntary.

Legal Authority: CHIPS Act of 2022 (Division A of Pub. L. 117-167).

This information collection request may be viewed at www.reginfo.gov. Follow the instructions to view the Department of Commerce collections currently under review by OMB.

Written comments and recommendations for the proposed information collection should be submitted on the following website www.reginfo.gov/public/do/PRAMain. Find this particular information collection by selecting “Currently under 30-day Review—Open for Public Comments” or by using the search function and entering the title of the collection. To ensure consideration, comments regarding this proposed information collection must be received on or before March 17, 2023.

Sheleen Dumas,
Department PRA Clearance Officer, Office of the Chief Information Officer, Commerce Department.

[FR Doc. 2023-04442 Filed 3-2-23; 8:45 am]

BILLING CODE 3510-60-P